DEPARTMENT OF THE INTERIOR

Fish and Wildlife Service

Migratory Bird Permits; Environmental Impact Statement on Double-Crested Cormorant Management

AGENCY: U.S. Fish and Wildlife Service, Interior.

ACTION: Notice of meetings.

SUMMARY: The U.S. Fish and Wildlife Service (Service or we) invites public participation in the scoping process for an Environmental Impact Statement (EIS) on the management of the double-crested cormorant in the United States. We are preparing this EIS under the authority of the National Environmental Policy Act and the Migratory Bird Treaty Act. The EIS will consider a range of management alternatives to address population expansion of the double-crested cormorant. This notice describes issues of concern and possible management alternatives; invites further public participation in the scoping process; identifies the locations, dates, and times of public scoping meetings; and identifies the Service official to whom comments may be directed.

DATES: Written comments regarding EIS scoping should be submitted by June 16, 2000, to the address below. Dates and times for the ten public scoping hearings are listed in the table under SUPPLEMENTARY INFORMATION.

ADDRESSES: Written comments on the proposed EIS and management plan can be sent by the following two methods:

(1) by mail to Chief, Office of Migratory Bird Management, U.S. Fish and Wildlife Service, 4401 N. Fairfax Dr., Room 634, Arlington, VA 22203; or

(2) by email to cormorant_eis@fws.gov.

The public may inspect comments during normal business hours in Room 634, Arlington Square Building, 4401 N. Fairfax Drive, Arlington, VA. The scoping hearings will be held at the locations listed in the table under SUPPLEMENTARY INFORMATION.

FOR FURTHER INFORMATION CONTACT: Jon Andrew, Office of Migratory Bird Management, (703) 358-1714.

SUPPLEMENTARY INFORMATION: On November 8, 1999, we published a notice of intent (64 FR 60826) to prepare an EIS and accompanying national management plan to address impacts caused by population and range expansion of the double-crested cormorant in the contiguous United States. This action is in response to increasing reports of resource conflicts between humans and cormorants. In addition to encouraging public input, we are involving natural resource agencies with jurisdiction or expertise in this issue, including U.S. Department of Agriculture/Animal and Plant Health Inspection Service/Wildlife Services, a cooperating agency in the development of the EIS, and concerned State agencies, especially those of Michigan, Vermont, Minnesota, Texas, and New York, who will participate through the International Association of Fish and Wildlife Agencies.

Double-Crested Cormorant Populations

The double-crested cormorant (Phalacrocorax auritus), a species native to the 48 contiguous United States and Alaska, has been federally protected by the Migratory Bird Treaty Act since 1972. This protected status, in addition to decreased levels of organochlorine contaminants in the environment and increased food availability, has contributed to dramatic population increases of this large, fish-eating waterbird over the past two-and-a-half decades.

The size of the North American breeding population has been estimated at about 372,000 pairs, or 852 colonies (Tyson et al. 1997). Hatch (1995) estimated a total population of 1 million-2 million birds. The double-crested cormorant breeds widely throughout much of the coastal and interior portions of the United States. It has been found breeding in 46 of the 48 contiguous United States. However, it is not uniformly distributed across this broad area. Greater than 60 percent of the breeding birds belong to the Interior Population. This is the fastest growing of the six major North American breeding populations (Hatch 1995), which includes the Great Lakes basin and northern prairie States and provinces. From 1970-1991, in the American and Canadian Great Lakes region, the number of double-crested cormorant nests increased from 89 to 38,000, an average growth rate of 29 percent (Weseloh et al. 1995). The contiguous United States breeding population increased at an average rate of 6.1 percent per year from 1966-1994 (Sauer et al. 1996).

In many parts of the United States, increased cormorant populations have led to conflicts with humans and various natural resources. Such conflicts include concerns over impacts to local economies, human health, the aquacultural industry, vegetation, fish populations, and bird populations. Management actions that we presently permit include population monitoring and research; information and education efforts; harassment; fitting of exclusionary devices at aquacultural facilities; issuance of depredation permits to take cormorants, their nests, or their eggs; and a Depredation Order (63 FR 10560) for taking birds at aquacultural facilities in 13 States. The preparation of an EIS is necessary in order to analyze alternative management strategies in the development of a national cormorant management plan that will more effectively deal with conflicts.

Alternatives

As stated in the notice of intent, we will develop management alternatives to be considered in the EIS after the scoping process, based on the Service's mission and the comments received during scoping. As of March 3, 2000, we had received 205 written comments in response to our notice of intent. From those letters, the following management options were identified, in order of frequency:

1. Control/reduce cormorant populations.

2. Protect cormorants.

3. Initiate a hunting season on cormorants.

4. Remove cormorants from protection of Migratory Bird Treaty Act.

5. Oil cormorant eggs.

6. Use population objectives in cormorant management.

7. Do not develop a management plan as one is not needed.

8. Expand Depredation Order to other States.

9. Let States manage cormorants.

10. Change depredation permit policy.

11. Emphasize non-lethal control.

12. Give USDA/APHIS/Wildlife Services more authority.

We are soliciting your comments on these options and any other issues, options, and impacts to be addressed in the EIS.

Issue Resolution and Environmental Review

After completion of the scoping process for the EIS, we will prepare a discussion of the potential effects, by alternative, which will include, but will not be limited to, the following areas: (1) Double-crested cormorant populations; (2) other bird populations; (3) native and sport fish populations; (4) vegetation; (5) aquacultural stock; and (6) socioeconomic factors.

We will conduct an environmental review of the management alternatives in accordance with the requirements of the National Environmental Policy Act, as appropriate. We are furnishing this notice in accordance with 40 CFR 1501.7 to obtain suggestions and information from other agencies, tribes, and the public on the scope of issues to be addressed in the EIS.

Public Scoping Meetings

Ten public scoping meetings will be held at the locations and times listed below:

Date | City | Location | Time
April 25, 2000 | Washington, DC | Department of Interior Building Auditorium, 1849 C Street, NW | 10 am.
April 27, 2000 | Portland, Oregon | Red Lion Hotel Coliseum, 1225 N. Thunderbird Way | 7 pm.
May 9, 2000 | Burlington, Vermont | Clarion Hotel and Convention Center, 1117 Williston Road | 7 pm.
May 10, 2000 | Watertown, New York | Dulles State Office Building Auditorium, 317 Washington Street | 7 pm.
May 11, 2000 | Syracuse, New York | Carousel Center Mall, Skydeck, Sixth Level, 9090 Carousel Center Drive | 7 pm.
May 15, 2000 | Green Bay, Wisconsin | Ramada Inn, 2750 Ramada Way | 7 pm.
May 16, 2000 | Mackinaw City, Michigan | Mackinaw City Public Schools, Gymnasium, 609 West Central | 7 pm.
May 17, 2000 | Hauppage, New York | Windham Watch Hotel, 1717 Vanderbilt Motor Parkway | 7 pm.
May 22, 2000 | Jackson, Mississippi | Primos Northgate, Convention Hall B, 4330 N. State Street | 7 pm.
May 23, 2000 | Athens, Texas | Texas Freshwater Fisheries Center, 5550 Farm Market Road 2495 | 7 pm.

References Cited

A complete list of all references cited is available from the Office of Migratory Bird Management (see ADDRESSES section).

Authorship: The primary author of this notice is Shauna Hanisch, Office of Migratory Bird Management.

Dated: April 7, 2000.
Jamie Rappaport Clark,
Director, U.S. Fish & Wildlife Service.

[FR Doc. 00-9281 Filed 4-13-00; 8:45 am]

BILLING CODE 4310-55-P